FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in the BHC Act (12 U.S.C. 1842(c)).

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than November 12, 2024.

A. Federal Reserve Bank of New York (Bank Applications Officer) 33 Liberty Street, New York, New York 10045-0001. Comments can also be sent electronically to Comments.applications@ny.frb.org:

1. Banco BTG Pactual S.A., BTG Pactual G7 Holding S.A., BTG Pactual Holding Financeira Ltda., and BTG Pactual Holding Internacional S.A., all of Rio de Janeiro, Brazil; BTG Pactual Holding S.A., São Paulo, Brazil; BTG Pactual UK Holdco Limited, London, United Kingdom; and BTG Pactual Bancorp, LLC, New York, New York; to become bank holding companies by acquiring M.Y. Safra Bank, FSB, also of New York, New York.

B. Federal Reserve Bank of St. Louis (Holly A. Rieser, Senior Manager) P.O. Box 442, St. Louis, Missouri 63166-2034. Comments can also be sent electronically to Comments.applications@stls.frb.org:

1. Oak Tree Financial Corporation, Inc., Rogers, Arkansas; to become a bank holding company by acquiring Riverside Bank, Sparkman, Arkansas.

C. Federal Reserve Bank of Minneapolis (Mark Rauzi, Vice President), 90 Hennepin Avenue, Minneapolis, Minnesota 55480-0291. Comments can also be sent electronically to MA@mpls.frb.org:

1. Stearns Financial Services, Inc. Employee Stock Ownership Plan and Trust, Saint Cloud, Minnesota; to acquire up to 23.65 percent of the voting shares of Stearns Financial Services, Inc., and thereby indirectly acquire voting shares of Stearns Bank National Association, both of Saint Cloud, Minnesota, and Stearns Bank of Upsala, National Association, Upsala, Minnesota.

Board of Governors of the Federal Reserve System.
Michele Taylor Fennell,
Associate Secretary of the Board.

[FR Doc. 2024-23485 Filed 10-9-24; 8:45 am]

BILLING CODE P